DEPARTMENT OF LABOR

Employment and Training Administration

[TA-W-34,013]

Alcatel Telecommunications Cable Roanoke, Virginia; Amended Notice of Negative Determination on Remand

In accordance with Section 223 of the Trade Act of 1974 (19 U.S.C. 2273) the Department of Labor issued a Negative Determination on Remand applicable to workers and former workers of the subject firm. The notice will soon be published in the Federal Register. In the second paragraph, second sentence, of the decision document, the Department inadvertently included an irrelevant citation, 19 U.S.C. 2231(a)(1)(A)(iii) and (B). Accordingly, the notice of negative determination on remand is amended to delete the reference to 19 U.S.C. 2231(a)(1)(A)(iii) and (B).

Signed at Washington, D.C. this 15th day of September 2000.
Edward A. Tomchick,
Director, Division of Trade Adjustment Assistance.

[FR Doc. 00-24419 Filed 9-21-00; 8:45 am]

BILLING CODE 4510-30-M